DEPARTMENT OF VETERANS AFFAIRS

[OMB Control No. 2900-0205]

Proposed Information Collection Activity; Comment Request: Applications and Appraisals for Employment for Title 38 Positions and Trainees

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed evaluate claimants' qualification for employment in VA's healthcare services.

DATES: Written comments and recommendations on the proposed collection of information should be received on or before May 14, 2012.

ADDRESSES: Submit written comments on the collection of information through Federal Docket Management System (FDMS) at www.Regulations.gov; or to Cynthia Harvey-Pryor, Veterans Health Administration (10P7BFP), Department of Veterans Affairs, 810 Vermont Avenue NW., Washington, DC 20420; or email: cynthia.harvey-pryor@va.gov. Please refer to “OMB Control No. 2900- 0205” in any correspondence. During the comment period, comments may be viewed online through the FDMS.

FOR FURTHER INFORMATION CONTACT: Cynthia Harvey-Pryor, (202) 461-5870 or Fax (202) 273-9381.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Applications and Appraisals for Employment for Title 38 Positions and Trainees, VA Forms 10-2850, 2850a through d, and VA Form Letters 10-341a and b.

OMB Control Number: 2900-0205.

Type of Review: Extension of a currently approved collection.

Abstract: The data collected on VA Forms 10-2850, 2850a through d, and VA Form Letters 10-341a and b, will be used to evaluate an applicant's qualification for employment with the VA, as well as their training, educational, and professional experiences. The data is necessary to determine the applicant's suitability, grade level and clinical privileges.

Affected Public: Individuals or households.

Estimated Annual Burden

a. Application for Physicians, Dentists, Podiatrists and Optometrists, Chiropractors, VA Form 10-2850—7,450 hours.

b. Application for Nurses and Nurse Anesthetists, VA Form 10-2850a—29,799 hours.

c. Application for Residents, VA Form 10-2850b—17,001 hours.

d. Application for Associated Health Occupations, VA Form 10-2850c—9,933 hours.

e. Application for Health Professions Trainees, VA Form 10-2850d—33,670 hours.

f. Appraisal of Applicant, VA Form Letter 10-341a—25,410 hours.

g. Trainee Qualification and Credentials Verification Letter, VA Form Letter 10-341b—6,709 hours.

Estimated Average Burden per Respondent

a. Application for Physicians, Dentists, Podiatrists and Optometrists, Chiropractors, VA Form 10-2850—30 minutes.

b. Application for Nurses and Nurse Anesthetists, VA Form 10-2850a—30 minutes.

c. Application for Residents, VA Form 10-2850b—30 minutes.

d. Application for Associated Health Occupations, VA Form 10-2850c—30 minutes.

e. Application for Health Professions Trainees, VA Form 10-2850d—30 minutes.

f. Appraisal of Applicant, VA Form FL 10-341a—30 minutes.

g. Trainee Qualification and Credentials Verification Letter, VA Form 10-341b—5 minutes.

Frequency of Response: On occasion.

Estimated Number of Respondents

a. Application for Physicians, Dentists, Podiatrists and Optometrists, Chiropractors, VA Form 10-2850—14,900.

b. Application for Nurses and Nurse Anesthetists, VA Form 10-2850a—59,598.

c. Application for Residents, VA Form 10-2850b—34,003.

d. Application for Associated Health Occupations, VA Form 10-2850c—19,866.

e. Application for Health Professions Trainees, VA Form 10-2850d—67,341.

f. Appraisal of Applicant, VA Form 10-341a—50,820.

g. Trainee Qualification and Credentials Verification Letter, VA Form 10-341b—80,518.

Dated: March 8, 2012.
By direction of the Secretary.
Denise McLamb,
Program Analyst, Enterprise Records Service.

[FR Doc. 2012-6099 Filed 3-13-12; 8:45 am]

BILLING CODE 8320-01-P